DEPARTMENT OF AND HUMAN SERVICES

National Institutes of Health

National Institutes of Health Sciences; Amended Notice of Meeting

Notice is hereby given of a change in the meeting of the National Institute of Environmental Health Sciences Special Emphasis Panel, July 17, 2003, 8 a.m. to July 17, 2003, 4 p.m., NIEHS/National Institutes of Health, Building 4401, East Campus, 79 T.W. Alexander Drive, 122, Research Triangle Park, NC, 27709 which was published in the Federal Register on June 20, 2003, 68 FR 37009.

The date of this telephone conference meeting has been changed to August 19, 2003 and the meeting will start at 9 a.m., not 8 a.m. as previously advertised. The meeting is closed to the public.

Dated: July 11, 2003.
Anna Snouffer,
Deputy Director, Office of Federal Advisory Committee Policy.

[FR Doc. 03-18370 Filed 7-18-03; 8:45 am]

BILLING CODE 4140-01-M